DEPARTMENT OF AGRICULTURE

Forest Service

Land Between the Lakes Advisory Board

AGENCY: Forest Service, USDA.

ACTION: Notice of Intent To Renew the Land Between the Lakes Advisory Board.

SUMMARY: The Department of Agriculture intends to renew the Land Between the Lakes (LBL) Advisory Board (Board). In accordance with provisions of Section 460 of the Land Between the Lakes Act of 1998 (Act) (16 U.S.C. 460 iii et seq.,) and the Federal Advisory Committee Act (FACA) (5 U.S.C. App. 2), except 14(a)(2) of FACA, the Board is being renewed to provide advice to the Secretary of Agriculture (Secretary) on the following: (1) Means of promoting public participation for the Land and Resource Management Plan, and (2) environmental education. Additional information concerning the Board can be found by visiting the website at: http://www.landbetweenthelakes.us/about/working-together/.

FOR FURTHER INFORMATION CONTACT: Christine Bombard, Advisory Board Liaison, Land Between the Lakes, 100 Van Morgan Drive, Golden Pond, Kentucky 42211, or by telephone at (270) 924-2002, or by email at christine.bombard@usda.gov. Individuals who use telecommunication devices for the deaf (TDD) may call the Federal Information Relay Service (FIRS) at 1-800-877-8339. This service is available 7 days a week, 24 hours a day.

SUPPLEMENTARY INFORMATION: In accordance with the provisions of FACA, the Secretary intends to renew the Board. The Board will be a statutory advisory Board and will operate under the provisions of FACA. The Board will report to the Secretary through the Chief of the Forest Service.

The Board provides a critical role in advising the Secretary best methods to promote public participation during the planning process for the Land Resource Management Plan and continues to provide advice to the Forest Service on environmental education issues.

The Board consists of 17 non-Federal members who provide balanced and broad representation and who shall be considered representatives of LBL user groups or State or local government within the following categories of interests:

(1) Four persons appointed by the Secretary of Agriculture, including:

a. Two residents of the State of Kentucky

b. Two residents of the State of Tennessee

(2) Two persons appointed by the Governor of Tennessee;

(3) Two persons appointed by the Governor of Kentucky;

(4) Two persons appointed by the Commissioner (or designee) of the Kentucky Department of Fish and Wildlife Resources;

(5) One person appointed by the Commissioner (or designee) of the Tennessee Wildlife Resource Agency;

(6) Two persons appointed by the Judge Executive of Lyon County, Kentucky;

(7) Two persons appointed by the Judge Executive of Trigg County, Kentucky; and

(8) Two persons appointed by the County Executive of Stewart County, Tennessee.

A designated Federal employee will serve as the Designated Federal Officer (DFO) under sections 10(e) and (f) of the Federal Advisory Committee Act (5 U.S.C. App. 2). A meeting notice will be published in the Federal Register 15 to 45 days before a scheduled meeting date. All meetings are generally open to the public and may include a “public forum” that may offer 5-10 minutes for participants to present comments to the advisory committee. The Chair of the Board ultimately makes the decision whether to offer time on the agenda for the public to speak to the general body.

Equal opportunity practices were followed in accordance with US Department of Agriculture (USDA) policies. To ensure that the recommendations of the Committee have taken into account the needs of the diverse groups served by USDA, membership includes to the extent possible, individuals with demonstrated ability to represent the needs of all racial and ethnic groups, women and men, and persons with disabilities.

Dated: January 24, 2020.
Cikena Reid,
Committee Management Officer, USDA.

[FR Doc. 2020-01795 Filed 1-30-20; 8:45 am]

BILLING CODE 3411-15-P